DEPARTMENT OF TRANSPORTATION

Federal Railroad Administration

Proposed Agency Information Collection Activities; Comment Request

AGENCY: Federal Railroad Administration, DOT.

ACTION: Notice.

SUMMARY: In accordance with the Paperwork Reduction Act of 1995 and its implementing regulations, the Federal Railroad Administration (FRA) hereby announces that it is seeking renewal of the following currently approved information collection activities. Before submitting these information collection requirements for clearance by the Office of Management and Budget (OMB), FRA is soliciting public comment on specific aspects of the activities identified below.

DATES: Comments must be received no later than November 24, 2008.

ADDRESSES: Submit written comments on any or all of the following proposed activities by mail to either: Mr. Robert Brogan, Office of Safety, Planning and Evaluation Division, RRS-21, Federal Railroad Administration, 1200 New Jersey Ave., SE., Mail Stop-25, Washington, DC 20590, or Ms. Nakia Jackson, Office of Information Technology, RAD-20, Federal Railroad Administration, 1200 New Jersey Ave., SE., Mail Stop 35, Washington, DC 20590. Commenters requesting FRA to acknowledge receipt of their respective comments must include a self-addressed stamped postcard stating, “Comments on OMB control number 2130-0571.” Alternatively, comments may be transmitted via facsimile to (202) 493-6216 or (202) 493-6497, or via e-mail to Mr. Brogan at robert.brogan@dot.gov, or to Ms. Jackson at nakia.jackson@dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1200 New Jersey Ave., SE., Mail Stop 25, Washington, DC 20590 (telephone: (202) 493-6292) or Ms. Nakia Jackson, Office of Information Technology, RAD-20, Federal Railroad Administration, 1200 New Jersey Ave., SE., Mail Stop 35, Washington, DC 20590 (telephone: (202) 493-6073). (These telephone numbers are not toll-free.)

SUPPLEMENTARY INFORMATION: The Paperwork Reduction Act of 1995 (PRA), Pub. L. No. 104-13, § 2, 109 Stat. 163 (1995) (codified as revised at 44 U.S.C. 3501-3520), and its implementing regulations, 5 CFR Part 1320, require Federal agencies to provide 60 days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) Whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(i)-(iv); 5 CFR 1320.8(d)(1)(i)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of currently approved information collection activities that FRA will submit for clearance by OMB as required under the PRA:

Title: Occupational Noise Exposure for Railroad Operating Employees.

OMB Control Number: 2130-0571.

Abstract: The collection of information is used by FRA to ensure that railroads covered by this rule establish and implement—by specified dates—noise monitoring, hearing conservation, and audiometric testing programs, as well as hearing conservation training programs, to protect their employees against the damaging and potentially dangerous effects of excessive noise in the everyday rail environment.

Affected Public: Businesses.

Respondent Universe: 460 railroads.

Frequency of Submission: On occasion.

Reporting Burden:

CFR section | Respondent universe | Total annual responses | Average time per response | Total annual burden hours
227.9—Waivers | 460 Railroads | 5 petitions | 60 minutes | 5
227.103—Noise Monitoring Program | 460 Railroads | 460 programs | 2 hours/8 hours/600 hours | 5,165
—Notification of Employee of Monitoring | 460 Railroads | 905 lists | 30 minutes | 453
227.107—Hearing Conservation Program (HCP) | 460 Railroads | 461 HCPs | 150 hrs/2 hrs/31 hrs/7.5 hours | 2,875
—Revised Hearing Conservation Programs (HCPs) | 460 Railroads | 92 HCPs | 1.74 hours | 160
227.109—Audiometric Testing Program—Existing Employees—Baseline Audiograms | 78,000 Employees | 60,000 audiograms + 6,000 audiograms | 7 min./25 minutes | 7,000 + 2,500
—Periodic Audiograms | 78,000 Employees | 8,000 audiograms | 25 minutes | 3,333
—Evaluation of Audiograms | 78,000 Employees | 2,330 evaluations + 93 retests | 6 min./2.5 hours | 466
—Problem Audiograms | 8,000 Employees | 45 documents | 10 minutes | 8
—Follow-up Procedures—Notifications | 8,000 Employees | 93 notifications | 15 minutes | 24
—Fitting/Training of Employees: Hearing Protectors | 240 Employees | 240 tr. sessions | 2 minutes | 8
—Referrals for Clinical/Otological Examinations | 240 Employees | 20 referrals/results | 2 hours | 40
—Notification to Employee of Need: Otological Examination | 240 Employees | 20 notifications | 5 minutes | 2
—New Audiometric Interpretation | 240 Employees | 20 notifications | 5 minutes | 2
227.111—Audiometric Test Requirements | 1,000 Mobile Vans | 1,000 tests | 45 minutes | 750
227.117—Hearing Protection Attenuation—Evaluation | 460 Railroads | 50 evaluations | 30 minutes | 25
—Re-Evaluations | 460 Railroads | 10 re-evaluations | 30 minutes | 5
227.119—Hearing Conservation Training Program—Development | 460 Railroads/AAR | 461 programs | 8 hours/2 hours/116 hours/1 hour | 956
—Employee Training | 460 Railroads | 26,000 tr. Empl | 30 minutes | 13,000
—Periodic Training | 460 Railroads | 7,000 tr. Empl | 30 minutes | 3,500
227.121—Recordkeeping—Authorization: Records | 460 Railroads | 10 requests + 10 responses | 10 min. + 15 min | 5
—Request for Copies of Reports | 460 Railroads | 150 requests + 150 responses | 21 min. + 45 min | 166
—Records Transfer When Carrier Becomes Defunct | 460 Railroads | 10 records | 24 minutes | 4
—Railroad Audiometric Test Records | 460 Railroads | 26,000 records | 2 minutes | 867
—Hearing Conservation Program (HCP) Records | 460 Railroads | 54,000 records | 45 seconds | 675
—HCP Training Records of Employees | 460 Railroads | 26,000 records | 30 seconds | 217
—Records: Standard Threshold Shifts of Employees | 460 Railroads | 280 records | 7 minutes | 33
229.121—Locomotive Cab Noise—Tests/Certifications | 3 Equipment Manufacturers | 700 tests/certific | 40 min. + 5 min | 111
—Equipment Maintenance: Excessive Noise Reports | 460 Railroads | 3,000 reports + 3,000 records | 10 min. + 5 min | 750
—Maintenance Records | 460 Railroads | 3,750 records | 8 minutes | 500
—Internal Auditable Monitoring Systems | 570 Railroads | 570 systems | 36 min. + 8.25 hour | 572
Appendix H—Static Test Protocols/Records | 700 Locomotives | 2 retests + 2 records | 35 min. + 5 min | 1

Total Responses: 230,939.

Estimated Total Annual Burden: 44,178 hours.

Status: Regular Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC on September 19, 2008.
D.J. Stadtler,
Director, Office of Financial Management, Federal Railroad Administration.

[FR Doc. E8-22563 Filed 9-24-08; 8:45 am]

BILLING CODE 4910-06-P